DEPARTMENT OF COMMERCE

National Oceanic and Atmospheric Administration

50 CFR Part 216

[Docket No. 080302357-8834-02]

RIN 0648-AT79

Taking and Importing Marine Mammals; Taking Marine Mammals Incidental to the Explosive Removal of Offshore Structures in the Gulf of Mexico

AGENCY: National Marine Fisheries Service (NMFS), National Oceanic and Atmospheric Administration (NOAA), Commerce.

ACTION: Final rule, correction.

SUMMARY: This document contains a correction to the final rule governing the taking of marine mammals incidental to the explosive removal of offshore structures in the Gulf of Mexico that was published in the Federal Register on Thursday June 19, 2008.

DATES: This correction is effective on September 15, 2008.

FOR FURTHER INFORMATION CONTACT: Kenneth Hollingshead, NMFS, at 301-713-2289, ext 128.

SUPPLEMENTARY INFORMATION: The final rule that is the subject of this correction was published on Thursday, June 19, 2008 (73 FR 34875). That final rule contains an inadvertent error in the amendatory instruction concerning the removal of subpart R in 50 CFR part 216.

Subpart R governs the taking of marine mammals incidental to construction and operation of offshore oil and gas facilities in the Beaufort Sea. That rule was published in the Federal Register on March 7, 2006 (71 FR 11322), became effective on April 6, 2006, and remains in effect until April 6, 2011. The instruction that it should be “added and reserved” is in error because Subpart R exists, and will remain in effect until April 6, 2011. In addition, the amendatory instruction is not an allowable instruction under Federal Register format rules. Therefore, this rule removes this instruction as it is confusing to the public and is an action that was not intended by NMFS.

Classification

E.O. 12866: This final rule has been determined to be not significant under E.O. 12866.

Administrative Procedure Act (APA): The Assistant Administrator (AA) for Fisheries finds good cause under 5 U.S.C. 553 (b)(B) to waive notice and opportunity for public comments as it is contrary to the public interest. The final rule published on Thursday, June 19, 2008 (73 FR 34875) contained an inadvertent error in the amendatory instruction concerning the removal of subpart R in 50 CFR part 216. The amendatory instruction concerning the removal of subpart R in Part 216 indicated that this subpart should be “added and reserved,” which was an action that was not intended by NMFS, and is not an allowable instruction under Federal Register format rules. As reflected in the rule that implemented the provisions of subpart R (March 7, 2006, 71 FR 11322), NMFS intended these regulations to remain in effect until April 6, 2011. In order to comply with Federal Register format rules and to avoid any confusion, this rule amends the June 19, 2008 final rule to delete the amendatory instruction concerning subpart R.

The AA finds good cause under 5 U.S.C. 553(d) to waive the 30-day delay in effectiveness. As stated above, NMFS included a confusing and unallowable Federal Register instruction concerning subpart R in the June 19, 2008 final rule. As stated in its March 7, 2006 rule, NMFS intended subpart R to remain in effect until April 6, 2011. In order to prevent further confusion regarding the status of subpart R, the AA makes this rule effective immediately.

Correction

The following is a correction to FR Doc. E8-13898, June 19, 2008:

1. On page 34889 in the third column, Instruction 2, reading “Subpart R is added and reserved.” is hereby removed.

2. On page 34889 in the third column, Instruction 3 is hereby redesignated as Instruction 2.

Dated: September 8, 2008.
Samuel D. Rauch III,
Deputy Assistant Administrator for Regulatory Programs, National Marine Fisheries Service.

[FR Doc. E8-21479 Filed 9-12-08; 8:45 am]

BILLING CODE 3510-22-S